DEPARTMENT OF TRANSPORTATION

Federal Aviation Administration

[Docket No. FAA-2020-0124]

Agency Information Collection Activities: Requests for Comments; Clearance of a New Approval of Information Collection: FAA Organization Designation Authorization (ODA) Survey

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on February 4, 2020. The collection involves a survey of Organization Designation Authorization (ODA) holders and ODA program applicants to document and assess FAA certification and oversight activities. The information to be collected is necessary because it is required of the FAA per Section 213 of the FAA Reauthorization Act of 2018.

DATES: Written comments should be submitted by November 9, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Robert Busto by email at: robert.busto@faa.gov; phone: 816-329-4143.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: FAA Organization Designation Authorization (ODA) Survey.

Form Numbers: None.

Type of Review: New information collection.

Background: The Federal Register Notice with a 60-day comment period soliciting comments on the following collection of information was published on February 4, 2020 (85 FR 6528). Section 213 of the FAA Reauthorization Act of 2018 requires FAA to establish an Expert Panel comprised of ODA holders, aviation manufacturers, safety experts, and FAA labor organizations. The Panel is instructed in the Act to conduct a survey, “of ODA holders and ODA program applicants to document and assess FAA certification and oversight activities, including the use of the ODA program and the timeliness and efficiency of the certification process.” The survey's purpose will be to provide information of whether ODA processes and procedures function as intended, and such information will be incorporated into the Expert Panel's report of assessment and recommendations. To accomplish this survey, the FAA will use an online survey, rather than a paper-based system, to reduce the burden on respondents and ensure centralized protection and control of the responses. Respondents taking the survey can do so anonymously.

Respondents: We anticipate an 80% participation rate from a respondent pool of approximately 82 ODA holders and applicants, estimated to about 66 respondents.

Frequency: We plan to distribute the survey one time to support the requirement described in Section 213 of the FAA Reauthorization Act of 2018.

Estimated Average Burden per Response: 2.5 hours to complete, 7.5 hours coordination, total 10 hrs.

Estimated Total Annual Burden: 660 Hours total (220 annualized for the 3-year approval window).

Issued in Washington, DC.
Joy Wolf,
Management & Program Analyst for Regulatory and Guidance Processing, Aircraft Certification Service.

[FR Doc. 2020-22274 Filed 10-7-20; 8:45 am]

BILLING CODE 4910-13-P